DEPARTMENT OF ENERGY

Western Area Power Administration

Headgate Rock to Blythe Transmission Line, Bernardino County, CA

AGENCY: Western Area Power Administration, DOE.

ACTION: Notice of floodplain involvement.

SUMMARY: The Western Area Power Administration (Western), a power marketing agency of the U.S. Department of Energy (DOE), proposes to replace existing wood-pole H-frame structures with steel-pole H-frame structures along 52 miles of transmission line between Headgate Rock Substation in Parker, Arizona, and Bylthe Substation in Blythe, California. Western proposes to replace 23 wood structures with light duty steel structures within the 100-year floodplain of the Colorado River, below Parker Dam, in San Bernardino County, California. Western will prepare a floodplain assessment per the DOE floodplain/wetland review requirements.

DATES: Comments on the proposed floodplain action are due to the address below no later than May 27, 2003.

ADDRESSES: Comments should be addressed to Mr. John Holt, Environment Manager, Desert Southwest Customer Service Region, Western Area Power Administration, P.O. Box 6457, Phoenix, AZ 85005-6457, fax (602) 352-2414, e-mail holt@wapa.gov.

FOR FURTHER INFORMATION CONTACT: Mr. George R. Perkins, Environmental Specialist, Desert Southwest Customer Service Region, Western Area Power Administration, P.O. Box 6457, Phoenix, AZ 85005-6457, telephone (602) 352-2536, e-mail Gperkins@wapa.gov.

SUPPLEMENTARY INFORMATION: Western proposes to replace existing wood-pole H-frame structures with steel-pole H-frame structures along 52 miles of transmission line between Headgate Rock Substation in Parker and Bylthe Substation in Blythe. The transmission line crosses the Colorado River near the town of Parker and Colorado River Indian Tribe administered lands in San Bernardino County, California. The transmission line crosses through riparian vegetation consisting of tamarisk but no wetland vegetation would be impacted. Western proposes to replace the existing wood-pole structures with light-duty steel structures because the existing poles have developed cracks and rot, and are in danger of failing. The project would involve replacing 23 structures and clearing about 1 acre of riparian vegetation for an access road within the boundaries of the 100-year floodplain of the Colorado River. The proposal to replace 23 structures covers a distance of 3 miles. The floodplain area has been subdivided and paved streets have been added. The area currently provides housing and several homes are built in the area.

In accordance with the DOE's Floodplain/Wetland Review Requirements (10 CFR part 1022), Western will prepare a floodplain assessment and will perform the proposed actions in a manner so as to avoid or minimize potential harm to or within the affected floodplain. The floodplain assessment will examine the proposed pole replacement activities. The floodplain action is located in San Bernardino, County, California, in T.1 N., R. 25 E., Sections 23, 24, 26, and 27. Maps and further information are available from the Western contact above.

Dated: May 1, 2003.
Michael S. Hacskaylo,
Administrator.

[FR Doc. 03-11722 Filed 5-9-03; 8:45 am]

BILLING CODE 6450-01-P